NUCLEAR REGULATORY COMMISSION

[Docket No. 40-8838-MLA-2, ASLBP No. 04-819-04-MLA]

United States Army, Jefferson Proving Ground Site; Notice of Reconstitution

Pursuant to the authority contained in 10 CFR 2.722 and 2.1209, Administrative Judge Paul B. Abramson is hereby appointed as a Special Assistant to aid Presiding Officer Administrative Judge Alan S. Rosenthal in the above-captioned 10 CFR Part 2, Subpart L proceeding.

All correspondence, documents, and other material shall be filed with the Special Assistant in accordance with 10 CFR 2.1203. The address of the Special Assistant is: Administrative Judge Paul B. Abramson, Special Assistant, Atomic Safety and Licensing Board Panel, U.S. Nuclear Regulatory Commission, Washington, DC 20555-0001.

Issued at Rockville, Maryland, this 5th day of January 2004.
G. Paul Bollwerk, III,
Chief Administrative Judge, Atomic Safety and Licensing Board Panel.

[FR Doc. 04-549 Filed 1-9-04; 8:45 am]

BILLING CODE 7590-01-P